SMALL BUSINESS ADMINISTRATION

Annual Meeting of the Regional Small Business Regulatory Fairness Boards Office of the National Ombudsman

AGENCY: U.S. Small Business Administration (SBA).

ACTION: Notice of open meeting of the Regional Small Business Regulatory Fairness Boards.

SUMMARY: The SBA, Office of the National Ombudsman is issuing this notice to announce the location, date, time and agenda for the annual board meeting of the ten Regional Small Business Regulatory Fairness Boards. The meeting is open to the public.

DATES: The meeting will be held on: Thursday, June 26, 2014 from 9:00 a.m. to 5:00 p.m. EST and Friday, June 27, 2014 from 9:00 a.m. to 4:00 p.m. EST.

ADDRESSES: The meeting will be at the SBA Headquarters Building, 409 3rd Street SW., Eisenhower Conference Center, Concourse Level, Washington, DC 20416.

SUPPLEMENTARY INFORMATION: Pursuant to the Small Business Regulatory Enforcement Fairness Act (Pub. L. 104-121), Sec. 222, SBA announces the meeting of the Regional Regulatory Fairness Boards. The Regional Regulatory Fairness Boards are tasked to advise the National Ombudsman on matters of concern to small businesses relating to enforcement activities of agencies and to report on substantiated instances of excessive enforcement actions against small business concerns, including any findings or recommendations of the Board as to agency enforcement practice or policy.

The purpose of the meeting is to discuss the following topics related to the Regional Small Business Regulatory Fairness Boards:

Regulating to Empower All Members of the Small Business Community: SBA Program Updates

—Q & As

—Regulatory Outlook from the Office of Information and Regulatory Affairs (OIRA)

—Jumpstart Our Business Startups (JOBS) Act Update

—Affordable Care Act (ACA) Updates related to Small Business

—Regulatory Update from SBA Office of Advocacy

—Regional Board Meetings

—Ethics and Standard of Conduct Briefing for Regional Regulatory Fairness Board members

FOR FURTHER INFORMATION CONTACT: The meeting is open to the public; however advance notice of attendance is requested. Anyone wishing to attend and/or make a presentation to the Regulatory Fairness Boards must contact José Méndez, Case Management Specialist, Office of the National Ombudsman, 409 3rd Street SW., Suite 7125, Washington, DC 20416 before June 18, 2014 by phone (202) 205-2417, fax (202) 481-5719 or email ombudsman-events@sba.gov.

Additionally, if you need accommodations because of a disability or require additional information, please contact José Méndez as well.

For more information on the Office of the National Ombudsman, please visit our Web site at www.sba.gov/ombudsman.

Dated: May 22, 2014.
Diana Doukas,
SBA Committee Management Officer.

[FR Doc. 2014-12557 Filed 5-29-14; 8:45 am]

BILLING CODE 8025-01-P